DEPARTMENT OF TRANSPORTATION

Federal Aviation Administration Aviation Rulemaking Advisory Committee Meeting

AGENCY: Federal Aviation Administration (FAA), DOT.

ACTION: Notice of Aviation Rulemaking Advisory Committee (ARAC) meeting.

SUMMARY: This notice announces a meeting of ARAC.

DATES: FAA will hold the meeting on Thursday, December 14, 2023, from 1:00 p.m. to 4:00 p.m. Eastern Time.

FAA must receive requests to attend the meeting by Tuesday, November 28, 2023.

FAA must receive requests for accommodations to a disability by Tuesday, November 28, 2023.

FAA must receive any written materials for review during the meeting by Tuesday, November 28, 2023.

ADDRESSES: The meeting will be held at the Federal Aviation Administration, 800 Independence Avenue SW, Washington, DC 20591, and virtually on Zoom. However, if FAA is unable to hold the meeting in person due to circumstances outside of its control, FAA will hold a virtual meeting, notifying registrants with the meeting details and posting any updates on FAA Committee website. Members of the public who wish to observe the meeting must RSVP by emailing 9-awa-arac@faa.gov. General committee information, including copies of the meeting minutes, will be available on FAA Committee website at https://www.faa.gov/regulations_policies/rulemaking/committees/documents/.

FOR FURTHER INFORMATION CONTACT: Aliah Duckett, Federal Aviation Administration, 800 Independence Avenue SW, Washington, DC 20591, telephone (202) 267-7489; email 9-awa-arac@faa.gov. Any committee-related request should be sent to the person listed in this section.

SUPPLEMENTARY INFORMATION:

I. Background

ARAC was created under the Federal Advisory Committee Act, in accordance with Title 5 of the United States Code (5 U.S.C. Ch.10) to provide advice and recommendations to FAA concerning rulemaking activities, such as aircraft operations, airman and air agency certification, airworthiness standards and certification, airports, maintenance, noise, and training.

II. Agenda

At the meeting, the agenda will cover the following topics:

• Status Updates

○ Active Working Groups

○ Transport Airplane and Engine (TAE) Subcommittee

• Recommendation Reports

• Any Other Business

Detailed agenda information will be posted on FAA Committee website address listed in the ADDRESSES section at least one week in advance of the meeting.

III. Public Participation

The meeting will be open to the public for virtual or in person attendance on a first-come, first-served basis, as there is limited space. Please confirm your attendance with the person listed in the FOR FURTHER INFORMATION CONTACT section and provide the following information: full legal name, country of citizenship, and name of your industry association or applicable affiliation. Please indicate if you plan to observe the meeting in person or virtually. FAA will email registrants the meeting access information in a timely manner prior to the start of the meeting.

The U.S. Department of Transportation is committed to providing equal access to this meeting for all participants. If you need alternative formats or services because of a disability, such as sign language, interpretation, or other ancillary aids, please contact the person listed in the FOR FURTHER INFORMATION CONTACT section.

FAA is not accepting oral presentations at this meeting due to time constraints. Any member of the public may present a written statement to the committee at any time. The public may present written statements to ARAC by providing a copy to the Designated Federal Officer via the email listed in the FOR FURTHER INFORMATION CONTACT section.

Issued in Washington, DC, on November 13, 2023.
Brandon Roberts,
Executive Director, Office of Rulemaking.

[FR Doc. 2023-25334 Filed 11-15-23; 8:45 am]

BILLING CODE 4910-13-P